DEPARTMENT OF ENERGY

Federal Energy Regulatory Commission

Combined Notice of Filings

Take notice that the Commission has received the following Natural Gas Pipeline Rate and Refund Report filings:

Filings Instituting Proceedings

Docket Numbers: RP12-650-000.

Applicants: Midcontinent Express Pipeline LLC.

Description: Iberdrola Energy Negotiated Rate to be effective 5/1/2012.

Filed Date: 4/26/12.

Accession Number: 20120426-5277.

Comments Due: 5 p.m. ET 5/8/12.

Docket Numbers: RP12-651-000.

Applicants: Black Marlin Pipeline Company.

Description: Black Marlin Pipeline Company submits Annual Imbalance Cash-out Report.

Filed Date: 4/26/12.

Accession Number: 20120426-5284.

Comments Due: 5 p.m. ET 5/8/12.

Docket Numbers: RP12-652-000.

Applicants: Discovery Gas Transmission LLC.

Description: Discovery Gas Transmission LLC submits Annual Imbalance Cash-out Report.

Filed Date: 4/26/12.

Accession Number: 20120426-5286.

Comments Due: 5 p.m. ET 5/8/12.

Docket Numbers: RP12-653-000.

Applicants: Northern Border Pipeline Company.

Description: Northern Border Pipeline Company submits Operational Purchases and Sales of Gas Report.

Filed Date: 4/26/12.

Accession Number: 20120426-5291.

Comments Due: 5 p.m. ET 5/8/12.

Docket Numbers: RP12-654-000.

Applicants: MarkWest Pioneer, LLC.

Description: MarkWest Pioneer—Nonconforming Negotiated Rate Agreement to be effective 5/1/2012.

Filed Date: 4/27/12.

Accession Number: 20120427-5057.

Comments Due: 5 p.m. ET 5/9/12.

Docket Numbers: RP12-655-000.

Applicants: Texas Eastern Transmission, LP.

Description: EQT 910900 Non-conforming Agreement to be effective 6/1/2012.

Filed Date: 4/27/12.

Accession Number: 20120427-5073.

Comments Due: 5 p.m. ET 5/9/12.

Docket Numbers: RP12-656-000.

Applicants: Elba Express Company, LLC.

Description: Elba Express Company, LLC submits Annual Update of Fuel Retention Rates Report.

Filed Date: 4/27/12.

Accession Number: 20120427-5105.

Comments Due: 5 p.m. ET 5/9/12.

Docket Numbers: RP12-657-000.

Applicants: Kern River Gas Transmission Company.

Description: 2012 SCRS Elimination to be effective 5/28/2012.

Filed Date: 4/27/12.

Accession Number: 20120427-5127.

Comments Due: 5 p.m. ET 5/9/12.

Docket Numbers: RP12-658-000.

Applicants: Cameron Interstate Pipeline, LLC.

Description: Annual Report of Operational Imbalances for 2011 of Cameron Interstate Pipeline, LLC.

Filed Date: 4/27/12.

Accession Number: 20120427-5129.

Comments Due: 5 p.m. ET 5/9/12.

Docket Numbers: RP12-659-000.

Applicants: Cameron Interstate Pipeline, LLC.

Description: Cameron Interstate Pipeline, LLC submits Annual Report of Interruptible Transportation Revenue Sharing.

Filed Date: 4/27/12.

Accession Number: 20120427-5277.

Comments Due: 5 p.m. ET 5/9/12.

Docket Numbers: RP12-660-000.

Applicants: Cameron Interstate Pipeline, LLC.

Description: Filed Date: 4/27/12.

Accession Number: 20120427-5278.

Comments Due: 5 p.m. ET 5/9/12.

Docket Numbers: RP12-661-000.

Applicants: PetroLogistics Natural Gas Storage, LLC.

Description: PetroLogistics Natural Gas Storage, LLC submits Annual Annual Operational Quantities Purchases/Sales Report.

Filed Date: 4/27/12.

Accession Number: 20120427-5282.

Comments Due: 5 p.m. ET 5/9/12.

Docket Numbers: RP12-662-000.

Applicants: Ruby Pipeline, LLC.

Description: Compliance and Updates in RP12-395-000 Proceeding to be effective 5/28/2012.

Filed Date: 4/27/12.

Accession Number: 20120427-5346.

Comments Due: 5 p.m. ET 5/9/12

Docket Numbers: RP12-663-000.

Applicants: Gulf South Pipeline Company, LP.

Description: 2012 Update Tariff Maps to be effective 5/31/2012.

Filed Date: 4/30/12.

Accession Number: 20120430-5054.

Comments Due: 5 p.m. ET 5/14/12.

Docket Numbers: RP12-664-000.

Applicants: Texas Gas Transmission, LLC.

Description: 2012 Update System Maps Filing to be effective 5/31/2012.

Filed Date: 4/30/12.

Accession Number: 20120430-5055.

Comments Due: 5 p.m. ET 5/14/12.

Docket Numbers: RP12-665-000.

Applicants: ANR Pipeline Company.

Description: Cashout Surcharge 2012 to be effective 6/1/2012.

Filed Date: 4/30/12.

Accession Number: 20120430-5057.

Comments Due: 5 p.m. ET 5/14/12.

Docket Numbers: RP12-666-000.

Applicants: Northern Natural Gas Company.

Description: 20120430 Winter Market Area Fuel Rate to be effective 11/1/2012.

Filed Date: 4/30/12.

Accession Number: 20120430-5058.

Comments Due: 5 p.m. ET 5/14/12.

Docket Numbers: RP12-667-000.

Applicants: Saltville Gas Storage Company LLC.

Description: Saltville Gas Storage Company LLC submits tariff filing per 154.204: SGSC Expired Negotiated Rates to be effective 6/1/2012.

Filed Date: 4/30/12.

Accession Number: 20120430-5084.

Comments Due: 5 p.m. ET 5/14/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: April 30, 2012.
Nathaniel J. Davis, Sr.,
Deputy Secretary.

[FR Doc. 2012-10971 Filed 5-7-12; 8:45 am]

BILLING CODE 6717-01-P